DEPARTMENT OF DEFENSE

Department of the Army

32 CFR Part 504

[Docket ID: USA-2017-HQ-0008]

RIN 0702-AA99

Obtaining Information From Financial Institutions

AGENCY: Department of the Army, DoD.

ACTION: Final rule.

SUMMARY: This final rule removes the Department of the Army (DA) regulation, which describes the procedures for complying with the Right to Financial Privacy Act (RFPA). On May 29, 2019, the Department of Defense (DoD) revised its overarching regulation for compliance with the RFPA which supersedes this part. This part is now unnecessary and should be removed from the CFR.

DATES: This rule is effective on November 6, 2019.

FOR FURTHER INFORMATION CONTACT: Mr. Daniel Perkins, 703-614-3309.

SUPPLEMENTARY INFORMATION: The overarching DoD regulation at 32 CFR part 275, “Right to Financial Privacy Act,” was revised on May 29, 2019 (84 FR 24708). That rule updates policies, responsibilities, and prescribes procedures for obtaining access to financial records maintained by financial institutions. It implements 12 U.S.C. Chapter 35 by providing guidance on the requirements and conditions for obtaining financial records. The DA regulation at 32 CFR part 504, “Obtaining Information from Financial Institutions,” last updated on October 19, 2005 (70 FR 60723), provides DA policies, procedures, and restrictions governing access to and disclosure of financial records maintained by financial institutions during the conduct of Army investigations or inquiries. The revision of 32 CFR part 275 supersedes the rule at 32 CFR part 504, necessitating its removal from the CFR.

The DA has determined that publication of this removal action for public comment is unnecessary because the policies removed are currently articulated in 32 CFR part 275, and internal DA policies will continue to be maintained in Army Regulation 190-6, “Obtaining Information from Financial Institutions” (last updated February 9, 2006, and available at https://armypubs.army.mil/ProductMaps/PubForm/Details.aspx?PUB_ID=50304).

This rule is not significant under Executive Order (E.O.) 12866, “Regulatory Planning and Review.” Therefore, the provisions of Executive Order 13771, “Reducing Regulation and Controlling Regulatory Costs,” are not applicable to this removal action.

This removal supports a recommendation of the DoD Regulatory Reform Task Force.

List of Subjects in 32 CFR Part 504

Banks, banking, Business and industry, Investigations, Law enforcement, Military personnel, Privacy.

PART 504—[REMOVED]

Accordingly, by the authority of 5 U.S.C. 301, 32 CFR part 504 is removed.

Brenda S. Bowen,
Army Federal Register Liaison Officer.

[FR Doc. 2019-24030 Filed 11-5-19; 8:45 am]

BILLING CODE 5001-03-P